DEPARTMENT OF TRANSPORTATION

Office of the Secretary

Aviation Proceedings, Agreements Filed During the Week Ending June 29, 2001

The following Agreements were filed with the Department of Transportation under the provisions of 49 U.S.C. sections 412 and 414. Answers may be filed within 21 days after the filing of the application.

Docket Number: OST-2001-9997.

Date Filed: June 25, 2001.

Parties: Members of the International Air Transport Association.

Subject: PTC12 USA-EUR 0119 dated 22 June 2001. Expedited TC12 North Atlantic USA-Europe Resolutions 002e, 015h, 054s (except between USA and Austria, Belgium, Germany, Italy, Netherlands, Scandinavia, Switzerland). Intended effective date: 1 August 2001.

Docket Number: OST-2001-10000.

Date Filed: June 25, 2001.

Parties: Members of the International Air Transport Association.

Subject: PTC3 0503 dated 22 June 2001. Mail Vote 132—Resolution 010g. TC3 Special Passenger Amending Resolution between Japan and Russia (in Asia) R1-R7. Intended effective date: 1 July 2001.

Docket Number: OST-2001-10021.

Date Filed: June 27, 2001.

Parties: Members of the International Air Transport Association.

Subject: PTC3 0504 dated 26 June 2001. Mail Vote 129—Resolution 010d. TC3 Special Passenger Amending Resolution between China and Japan R1-R8. Intended effective date: 1 August 2001.

Docket Number: OST-2001-10029.

Date Filed: June 28, 2001.

Parties: Members of the International Air Transport Association.

Subject: PTC12 USA-EUR 0123 dated 29 June 2001. Mail Vote 134—Resolution 072cc. TC12 North Atlantic Excursion Fares from USA to Austria, Belgium, Germany, Italy, Netherlands, Scandinavia, Switzerland. Intended effective date: 1 August 2001.

Docket Number: OST-2001-10030.

Date Filed: June 28, 2001.

Parties: Members of the International Air Transport Association.

Subject: PTC COMP 0828 dated 26 June 2001. Mail Vote 128—Resolution 010c. TC2/12/23 Special Passenger Amending Resolution from Mozambique. Intended effective date: 1 July 2001.

Docket Number: OST-2001-10038.

Date Filed: June 29, 2001.

Parties: Members of the International Air Transport Association.

Subject: CTC COMP 0359 dated 29 June 2001. Mail Vote 133—Resolution 033k (amending). Special Cargo Currency Conversion Resolution—euro. Intended effective date: 15 July 2001.

Dorothy Y. Beard,
Federal Register Liaison.

[FR Doc. 01-17228 Filed 7-9-01; 8:45 am]

BILLING CODE 4910-62-P